DEPARTMENT OF AGRICULTURE

Agricultural Marketing Service

[Docket No. FV05-944-1 NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for specified exempt import commodities.

DATES: Comments must be received by December 19, 2005.

ADDITIONAL INFORMATION OR COMMENTS: Contact Valerie L. Emmer-Scott, Marketing Specialist, Marketing Order Administration Branch, Fruit and Vegetable Programs, AMS, USDA, 1400 Independence Avenue, SW., room 2525-S, STOP 0237, Washington, DC 20250-0237; Telephone: (202) 720-2491, Fax: (202) 720-8938, or e-mail: moab.docketclerk@usda.gov.

Small businesses may request information on complying with this regulation by contacting: Jay Guerber, Marketing Order Administration Branch, Fruit and Vegetable Programs, AMS, USDA, 1400 Independence Avenue, SW., STOP 0237, Washington, DC 20250-0237; Telephone: (202) 720-2491, Fax: (202) 720-8938, or e-mail: Jay.Guerber@usda.gov.

SUPPLEMENTARY INFORMATION: Title: Specified Commodities Imported into the United States Exempt from Import Requirements.

OMB Number: 0581-0167.

Expiration Date of Approval: June 30, 2006.

Type of Request: Extension and revision of a currently approved information collection.

Abstract: Section 8e of the Agricultural Marketing Agreement Act of 1937 (Act), as amended (7 U.S.C. of 601-674) requires that whenever the Secretary of Agriculture issues grade, size, quality, or maturity regulations under domestic marketing orders for certain commodities, the same or comparable regulations on imports of those commodities must be issued. Import regulations apply only during those periods when domestic marketing order regulations are in effect.

Currently, the following commodities are subject to Section 8e import regulations: Avocados, dates (other than dates for processing), hazelnuts, grapefruit, table grapes, kiwifruit, olives (other than Spanish-style olives), onions, oranges, Irish potatoes, dried prunes (suspended), fresh prunes, raisins, tomatoes, and walnuts. However, imports of these commodities are exempt from such requirements if they are imported for such outlets as processing, charity, animal feed, seed, and distribution to relief agencies, when those outlets are exempt under the applicable marketing order.

Safeguard procedures in the form of importer and receiver importer requirements are used to ensure that the imported commodity is provided to authorized exempt outlets. The safeguard procedures are similar to the reports currently required by most domestic marketing orders. The import regulations require importers and receivers of imported fruit, vegetable and specialty crops to submit a form as provided in the following regulations: (1) Fruits; import regulations (7 CFR part 944.350); (2) Vegetables; import regulations (7 CFR part 980.501); and (3) Specialty crops; import regulations (7 CFR part 999.500).

An importer wishing to import commodities for exempt purposes must complete, prior to importation, an “Importer's Exempt Commodity Form”, FV-6, which is a four-part form. The first copy is presented to U.S. Customs and Border Protection, Department of Homeland Security. The importer files the second copy is filed with the Marketing Order Administration Branch (MOAB) of the Fruit and Vegetable Programs, AMS, within two days after the commodity enters the United States. The third copy of the form accompanies the exempt shipment to its intended destination. The receiver certifies that the commodity has been received and that it will be utilized for authorized exempt purposes. The receiver then files the third copy with MOAB, within two days after receiving the commodity. The fourth copy is retained by the importer.

The Department of Agriculture (Department) utilizes this information to ensure that imported goods destined for exempt outlets are given no less favorable treatment than that afforded to domestic goods destined for such exempt outlets. These exemptions are consistent with Section 8e import regulations under the Act.

The form requires the minimum amount of information necessary to effectively carry out the requirements of the Act, and its use is necessary to fulfill the intent of the Act, and to administer Section 8e, compliance activities.

In addition, included in this extension and revision of a currently approved information collection is another form titled, “Civil Penalty Stipulation Agreement”, (FV-7) (Agreement). The requirement for this form is a signature and, therefore, there is no burden on the respondent.

The information collected is used primarily by authorized representatives of the Department, including AMS, Fruit and Vegetable Programs' regional and headquarters staff. AMS is the primary user of the information.

Estimate of Burden: Public reporting burden for this collection of information is estimated to average .17 hours per response.

Respondents: Importers and receivers of exempt commodities.

Estimated Number of Respondents: 491.

Estimated Number of Responses per Respondent: 10.91.

Estimated Total Annual Burden on Respondents: 907.42 hours.

AMS is committed to compliance with the Government Paperwork Elimination Act (GPEA), which requires Government agencies in general to provide the public the option of submitting information or transacting business electronically to the maximum extent possible.

Comments are invited on: (1) Whether the proposed collection of information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference OMB No. 0581-0167 and be mailed to Docket Clerk, Fruit and Vegetable Programs, AMS, USDA, 1400 Independence Avenue, SW., room 2525-S., Stop 0237, Washington, DC 20250-0237; Fax: (202) 720-2829, or e-mail: moab.docketclerk@usda.gov. Comments should reference the docket number and the date and page of this issue of the Federal Register. All comments received will be available for public inspection in the Office of the Docket Clerk during regular Department business hours at 1400 Independence Ave., SW., Washington, DC, room 2525-S.

All responses to this notice will be summarized and included in the request for OMB approval. All comments will also become a mater of public record.

Dated: October 13, 2005.
Lloyd C. Day,
Administrator, Agricultural Marketing Service.

[FR Doc. 05-20861 Filed 10-17-05; 8:45 am]

BILLING CODE 3410-02-P